SMALL BUSINESS ADMINISTRATION

[Disaster Declaration #18100 and #18101; Alaska Disaster Number AK-00059]

Presidential Declaration of a Major Disaster for the State of Alaska

AGENCY: U.S. Small Business Administration.

ACTION: Notice.

SUMMARY: This is a Notice of the Presidential declaration of a major disaster for the State of Alaska (FEMA-4730-DR), dated 08/23/2023.

Incident: Flooding.

Incident Period: 05/12/2023 through 06/03/2023.

DATES: Issued on 08/23/2023.

Physical Loan Application Deadline Date: 10/23/2023.

Economic Injury (EIDL) Loan Application Deadline Date: 05/23/2024.

ADDRESSES: Submit completed loan applications to: U.S. Small Business Administration, Processing and Disbursement Center, 14925 Kingsport Road, Fort Worth, TX 76155.

FOR FURTHER INFORMATION CONTACT: A. Escobar, Office of Disaster Recovery & Resilience, U.S. Small Business Administration, 409 3rd Street SW, Suite 6050, Washington, DC 20416, (202) 205-6734.

SUPPLEMENTARY INFORMATION: Notice is hereby given that as a result of the President's major disaster declaration on 08/23/2023, applications for disaster loans may be filed at the address listed above or other locally announced locations.

The following areas have been determined to be adversely affected by the disaster:

Primary Counties (Physical Damage and Economic Injury Loans): Copper River REAA, Kuspuk REAA, Lower Kuskokwim REAA, Lower Yukon REAA, Yukon Flats REAA.

Contiguous Counties (Economic Injury Loans Only):

Alaska: Alaska Gateway REAA, Bering Strait REAA, Chugach REAA, City and Borough of Yakutat, Delta/Greely REAA, Fairbanks North Star Borough, Iditarod Area REAA, Kashunamiut (Chevak) REAA, Lake and Peninsula Borough, Matanuska-Susitna Borough, North Slope Borough, Southwest Region REAA, Yukon-Koyukuk REAA, Yupiit REAA.

The Interest Rates are:

| Percent
For Physical Damage:
Homeowners with Credit Available Elsewhere | 5.000
Homeowners without Credit Available Elsewhere | 2.500
Businesses with Credit Available Elsewhere | 8.000
Businesses without Credit Available Elsewhere | 4.000
Non-Profit Organizations with Credit Available Elsewhere | 2.375
Non-Profit Organizations without Credit Available Elsewhere | 2.375
For Economic Injury:
Businesses & Small Agricultural Cooperatives without Credit Available Elsewhere | 4.000
Non-Profit Organizations without Credit Available Elsewhere | 2.375

The number assigned to this disaster for physical damage is 18100 6 and for economic injury is 18101 0.

(Catalog of Federal Domestic Assistance Number 59008)

Francisco Sánchez, Jr.,
Associate Administrator, Office of Disaster Recovery & Resilience.

[FR Doc. 2023-18951 Filed 8-31-23; 8:45 am]

BILLING CODE 8026-09-P